DEPARTMENT OF DEFENSE

Department of the Navy

Notice of Performance Review Board Membership

AGENCY: Department of the Navy, DOD.

ACTION: Notice.

SUMMARY: Pursuant to 5 U.S.C. 4314(c)(4), the Department of the Navy (DON) announces the appointment of members to the DON's numerous Senior Executive Service (SES) Performance Review Boards (PRBs). The purpose of the PRBs is to provide fair and impartial review of the annual SES performance appraisal prepared by the senior executive's immediate and second level supervisor; to make recommendations to appointing officials regarding acceptance or modification of the performance rating; and to make recommendations for monetary performance awards. Composition of the specific PRBs will be determined on an ad hoc basis from among individuals listed below:

ACKLEY, V. H. MR.

ALEXANDER, J. A. DR.

ALTWEGG, D. M. MR.

ANTANITUS, D. RADM

ANTOINE, C. S. MR.

ARNY, L. W. MR.

AVILES, D. M. HON.

BAILEY, W. C. MR.

BARNUM, H. C. MR.

BAUMAN, D. M. MR.

BEDARD, E. R. LTGEN

BLAIR, A. K. MS.

BONWICH, S. M. MR.

BOYD, W. R. MR.

BRANT, D. L. MR.

BREEDLOVE, W. J. DR.

BROWN, P. F. MR.

BURNS, J. D. RADM

BUTLER, J. D. RADML

CALI, R. T. MR.

CARPENTER, A. W. MS.

CATRAMBONE, G. P. MR.

CHENEVEY, J. V. RADM

CHURCH, A. T. RADM

CIPRIANO, J. R. MR.

CLARK, C. A. MS.

COCHRANE JR, E. R. MR.

COHEN, J. M. RADM

COHN, H. MR.

COLEMAN, R. S. BGEN

COMBS, D. S. MR.

COMMONS, G. L. MS.

COOK, C. E. MR.

CRENSHAW, L. RADM

CROWLEY, R. E. RADM

CURTIS, D. I. MR.

DEAN, P. J. MRS.

DECKER, M. H. MR.

DEWITTE, C. K. MS.

DOHERTY, L. M. DR.

DURAND, S. R. MS.

DYER, J. W. VADM

EDMOND, D. J. MS.

EHRLER, S. M. MR.

ELLIS, W. G. MR.

ENNIS, M. BGEN

ESSIG, T. W. MR.

EVANS, G. L. MS.

FEIGLEY, J. M. BGEN

FEIN, J. A. MR.

FELLIN, T. RADM

FILIPPI, D. M. MS.

FLYNN, B. P. MS.

FORD, F. B. MR.

FRANKLIN, R. E. MR.

GLAS, R. A. MR.

GODWIN, J. B. RADML

GOTTFRIED, J. M. MS.

GREENERT, J. W. RADM

GRIFFIN, R. M. MR.

GUARD, H. E. DR.

HAAS, R. L. MR.

HAGEDORN, G. D. MR.

HANDEL, T. H. MR.

HANNAH, B. W. DR.

HARTWIG, E. O. DR.

HAUENSTEIN, W. H. MR.

HAYNES, R. S. MR.

HENRY, M. G. MR.

HERR, F. J. DR.

HIGGINS, K. DR.

HILDEBRANDT, A. H. MR.

HOBART, R. L. MR.

HOGUE, R. D. MR.

HOLADAY, D. A. MR.

HOWARD, J. S. MR.

HOWELL, D. S. MS.

HOWIE, H. K. MR.

HUBBELL, P. C. MR.

JAGGARD, M. F. MR.

JOHNSON, H. T. HON

JOHNSTON, C. H. RADM

JUNKER, B. R. DR.

KLEMM, W. R. RADM

KOLB, R. C. DR.

KRANZ, T. F. MR.

KRASIK, S. A. MS.

KREITZER, L. P. MR.

LACEY, M. E. MRS.

LARAIA, J. R. MR.

LAUX, T. E. MR.

LEACH, R. A. MR.

LEBOEUF, G. G. MR.

LEGGIERI, S. R. MS.

LEKOUDIS, S. G. DR.

LEWIS, R. D. MS.

LISIEWSKI, R. S. MR.

LIVINGSTONE, S. M. HON

LOFTUS, J. V. MS.

LONG, L. A. MS.

LOOSE, M. K. RADM

LOTT, B. M. MAJGEN

LOWELL, P. M. MR.

LYNCH, J. G. MR.

MAGNUS, R. LTRGEN

MALTBIE JR, W. F. MR.

MANGELS, K. H. MR.

MARTIN, R. J. MR.

MASCIARELLI, J. R. MR.

MCDONNELL, T. E. MR.

MCELENY, J. F. MR.

MCERLEAN, D. P. DR.

MCGEE, T. CAPT

MCGINN, D. V. VADM

MCKISSOCK, G. S. LTGEN

MCLAUGHLIN, P. MR.

MCNAIR, J. W.

MEADOWS, L. J. MS.

MERRITT, D. L. MR.

MESEROLE JR., M. MR.

MILES, B. K. MR.

MILLER, K. E. MR.

MOLZAHN, W. R. MR.

MONTGOMERY, J. A. DR.

MORA, A. J. HON

MORRIS, D. A. MR.

MURPHY, P. M. MR.

MUTH, C. C. MS.

NAVAS JR., W. A. HON.

NEWSOME, L. D. RADM

NICKELL JR, J. R. MR.

O'DRISCOLL, M. J. MR.

OLSEN, M .A. MS.

ORNER, J. G. MR.

PANEK, R. L. MR.

PARKS, G. L. LTGEN

PAYNE, T. MR.

PERSONS, B. J. MR.

PHELPS, F. A. MR.

PLUNKETT, B. J. MR.

POLLACK, W. J. MR.

POLZIN, J. E. MR.

PORTER, D. E. MR.

PRINE, R. MR.

RAMBERG, S. E. DR.

RANDALL, S. R. MR.

RAPS, S. P. MS.

RATH, B. B. DR.

ROARK JR., J. E. MR.

ROBERSON, E. S. MS.

ROBY, C. MS.

RODERICK, B. A. MR.

ROSENTHAL, R. J. MR.

RYZEWIC, W. H. MR.

SANDEL, E. A. MS.

SAUL, E. L. MR.

SCHAEFER, J. C. MR.

SCHAEFER JR, W. J. MR.

SCHNEIDER, P. A. MR.

SCHREGARDOUS, D. R. MR.

SCHUBERT, D. CAPT

SHEA, R. M. MAJGEN

SHECK, E. E. MR.

SHEPHARD, M. R. MS.

SIMON, E. A. MR.

SOMOROFF, A. R. DR.

STELLOH-GARNER, C. MS.

STOREY, R. C. MR.

STUSSIE, W. A. MR.

SULLIVAN, P. E. RADML

TAMBURRINO, P. M. MR.

TARRANT, N. J. MS.

TESCH, T. G. MR.

THOMAS, J. R. BGEN

THOMAS, R. O. MR.

THOMPSON, R. C. MR.

THROCKMORTON JR., E. L. MR.

TOWNSEND, D. K. MS.

TRAMMELL, R. K. MR.

TULLAR, E. W. MR.

TURNER, R. F. MR.

UHLER, D. G. DR.

WALDMAN, M. B. MR.

WELCH, B. S. MS.

WENNERGREN, D. M. MR.

WEYMAN, A. S. MR.

WHITON, H. W. RADM

WHITTEMORE, A. MS.

WILLIAMS, G. P. MR.

WRIGHT, J. W. DR.

YOUNG, C. B. RADM

YOUNG, J. J. HON.

FOR FURTHER INFORMATION CONTACT: Ms. Carmen Arrowood, Office of Civilian Human Resources, telephone (202) 764-0635.

R.E. Vincent II,
Lieutenant Commander, Judge Advocate General's Corps, U.S. Navy, Federal Register Liaison Officer.

[FR Doc. 02-22680 Filed 9-5-02; 8:45 am]

BILLING CODE 3810-FF-P